DEPARTMENT OF LABOR

Occupational Safety and Health Administration

[Docket No. OSHA-2008-0002]

National Advisory Committee on Occupational Safety and Health (NACOSH), Charter Renewal

AGENCY: Occupational Safety and Health Administration (OSHA), Labor.

ACTION: Notice of renewal of the NACOSH charter.

SUMMARY: The Secretary of Labor has renewed the charter of the National Advisory Committee on Occupational Safety and Health (NACOSH) for two years.

FOR FURTHER INFORMATION CONTACT: Ms. Deborah Crawford, OSHA Directorate of Evaluation and Analysis, Room N-3641, U.S. Department of Labor, 200 Constitution Avenue, NW., Washington, DC 20210; telephone (202) 693-1932.

SUPPLEMENTARY INFORMATION: NACOSH was established by Section 7(a) of the Occupational Safety and Health Act of 1970 (the Act) (29 U.S.C. 651, 656) to advise, consult with, and make recommendations to the Secretary of Labor and the Secretary of Health and Human Services on matters relating to the administration of the Act. Under the Act, Congress intended NACOSH to be a continuing advisory committee of indefinite duration.

NACOSH operates in accordance with the Federal Advisory Committee Act (FACA) (5 U.S.C. App. 2) and OSHA's regulations on advisory committees (29 CFR parts 1912 and 1912a). Pursuant to FACA and its implementing regulations (41 CFR 102-3), the NACOSH charter must be renewed every two years. The current charter expires on January 29, 2009. The Secretary has determined that renewing the NACOSH charter is necessary and in the public interest. The new Committee charter will expire two years from the date it is filed.

To read or download a copy of the new NACOSH charter, go to Docket No. OSHA-2008-0002 at http://www.regulations.gov, the Federal eRulemaking Portal. The charter also is available for inspection and copying at the OSHA Docket Office, N-2625, U.S. Department of Labor, 200 Constitution Avenue, NW., Washington, DC 20210; telephone (202) 693-2350. In addition, the charter may be viewed or downloaded at the Federal Advisory Committees Database at http://www.fido.gov.

Authority and Signature

Edwin G. Foulke, Jr., Assistant Secretary of Labor for Occupational Safety and Health, directed the preparation of this notice under the authority granted by Sections 6(b) and 7(a) of the Occupational Safety and Health Act of 1970 (29 U.S.C. 655, 656), the Federal Advisory Committee Act (5 U.S.C. App. 2), 29 CFR parts 1912 and 1912a, 41 CFR 102-3, and Secretary of Labor's Order 5-2007 (72 FR 31160).

Signed at Washington, DC this 6th day of October 2008.
Edwin G. Foulke, Jr.,
Assistant Secretary of Labor for Occupational Safety and Health.

[FR Doc. E8-24189 Filed 10-9-08; 8:45 am]

BILLING CODE 4510-26-P